DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 77 FR 43837-43841, dated July 26, 2012) is amended to reorganize the Epidemiology and Analysis Program Office, Office of Surveillance, Epidemiology and Laboratory Services, Centers for Disease Control and Prevention.

Section C-B, Organization and Functions, is hereby amended as follows: Delete in its entirety the titles and functional statements for the Division of Epidemiology and Analytic Methods (CPKB) and the Division of Community Preventive Services (CPKC) and insert the following:

Division of Epidemiologic and Analytic Methods for Population Health (CPKE). (1) Provides leadership and overall direction for execution of programs that support the development and dissemination of epidemiological and analytical methods for improving population health, and that identify what works in community preventive services; (2) establishes division goals, objectives and priorities and assures alignment with EAPO and CDC goals, objectives and priorities; (3) provides leadership and guidance for a portfolio of projects and activities that address cross cutting topics including measurement and assessment of population health, burden of disease, health disparities, social determinants of health, and community preventive services; (4) supports the development and dissemination of publications and reports on cross cutting topics and community preventive services; (5) monitors progress in implementation of division projects and activities that support the achievement of CDC and EAPO goals, objectives, and priorities; (6) provides oversight and approval of scientific products including manuscripts, Web sites, reports, and other documents; (7) assures compliance with all federal rules and regulations regarding research with human subjects; (8) provides division-level management, administration, support services, and coordinates with appropriate offices on program and administrative matters; and (9) develops curriculum, training, and consultation services for CDC and other federal and non-federal partners to foster the development of skills in epidemiologic and analytic methodologies, and systematic reviews.

Office of the Director (CPKE1). (1) Provides leadership and guidance on strategic planning and implementation, program priority setting, and policy development, to advance the mission of the division, EAPO and CDC; (2) develops goals, objectives, and budget; monitors progress and allocation of resources, and reports accomplishments, future directions, and resource requirements; (3) develops, implements and evaluates long term research and programmatic agendas for analytical and epidemiologic activities and the Community Guide; (4) facilitates scientific, policy and program collaboration among divisions and centers, and between CDC and other federal/non-federal partners; (5) promotes advancement of science throughout the division, supports program evaluation, and ensures that research meets the highest standards in the field; (6) provides epidemiologic and analytic expertise and consultation to planning, projects, policies and program activities; (7) advises the Office of the Director of EAPO on matters relating to epidemiologic and analytic methods and the Community Guide, and coordinates division responses to requests for technical assistance or information on activities supported by the division; (8) develops and produces communication tools and public affairs strategies to meet the needs of division programs and mission; and (9) represents the division at official professional and scientific meetings, both within and outside of CDC.

Analytic Tools and Methods Branch (CPKEB). (1) Supports the development and dissemination of cross-cutting analytical methodology, including but not limited to advanced statistical methods, forecasting, geospatial methods, meta-analysis, and economic analysis; (2) supports and conducts applied research that expands the scope of analytic methods capabilities and public health science; (3) provides assistance and consultation on analytical methodology to other units within CDC; (4) identifies complex system models and logistics simulation models and evaluates and assesses their validity and utility for public health practice; (5) maintains an inventory of up-to-date information on models relevant to public health and facilitates access to the models by other units within CDC; (6) develops and applies new and existing quantitative methodologies and simulation and decision support tools to assist CDC programs including emergency preparedness and response activities; (7) develops, maintains, and improves epidemiologic tools for data collection, data management, and data analysis, including Epi Info; (8) provides training, technical assistance, and support to public health partners and entities using Epi Info for outbreak investigations and other public health monitoring activities; (9) collaborates with national and global partners to conceive and develop open-source public health tools for outbreak management, surveillance, and research applications; (10) participates with CDC and other federal and non-federal partners in developing indicators, methods, and statistical procedures for assessing and monitoring the health of communities and measuring the effectiveness of community interventions; and (11) participates with CDC and other federal and non-federal partners in developing indicators, methods, and statistical procedures for measuring and reporting social determinants of health.

Community Guide Branch (CPKEC). (1) Convenes and supports the independent Community Preventive Services Task Force (CPSTF); (2) oversees production of the systematic reviews that serve as the foundation for CPSTF findings and recommendations; (3) coordinates and manages large and diverse teams of internal and external partners in the systematic review process; (4) participates with other CDC programs, HHS, and non-governmental partners in developing and/or refining methods for conducting systematic reviews; (5) assists CDC and other federal and non-federal partners in understanding, using, and communicating methods for conducting systematic reviews; (6) produces and promotes the use of the Guide to Community Preventive Services (aka Community Guide); (7) communicates the Community Guide reviews, recommendations, and research needs in the American Journal of Preventive Medicine and the Morbidity and Mortality Weekly Report (MMWR) publications as well as via other journals, books, documents, the world wide Web, and other media; (8) participates with other CDC programs, HHS and non-governmental partners in disseminating Community Guide reviews, recommendations, and research needs to appropriate audiences throughout the U.S. health care and public health systems, and their multisectoral partners; (9) participates with other CDC programs, HHS, and other federal and non-governmental partners in developing policies, and processes for referencing Community Guide findings in research and programmatic funding announcements, with the aim of increasing use of Community Guide findings and filling evidence gaps; (10) participates with other CDC programs, HHS, and non-governmental partners in developing and/or refining methods for implementing Community Guide recommendations; (11) provides consultations for implementing Community Guide recommended strategies; (12) participates in the development of national and regional public/private partnerships to enhance prevention research and the translation of evidence into policy and action; (13) assists CDC and other federal and non-federal partners in linking reviews of evidence to guidelines development and/or program implementation; and (14) designs and conducts programmatic, process and outcome evaluation strategies for all stages of development and diffusion of the Community Guide.

Dated: August 16, 2012.
Sherri A. Berger,
Chief Operating Officer, Centers for Disease Control and Prevention.

[FR Doc. 2012-21521 Filed 8-31-12; 8:45 am]

BILLING CODE 4160-18-M